DEPARTMENT OF STATE

[Public Notice: 10219]

Certification Pursuant to Section 7045(A)(4)(B) of the Department of State, Foreign Operations, and Related Programs Appropriations Act, 2017

By virtue of the authority vested in me as the Secretary of State, including pursuant to section 7045(a)(4)(B) of the Department of State, Foreign Operations, and Related Programs Appropriations Act, 2017 (Div. J, Pub. L. 115-31), I hereby certify that the central government of El Salvador is taking effective steps, which are in addition to those steps taken since the certification and report submitted during the prior year, to:

• Work cooperatively with an autonomous, publicly accountable entity to provide oversight of the Plan;

• Combat corruption, including investigating and prosecuting current and former government officials credibly alleged to be corrupt;

• Implement reforms, policies, and programs to improve transparency and strengthen public institutions, including increasing the capacity and independence of the judiciary and the Office of the Attorney General;

• Implement a policy to ensure that local communities, civil society organizations (including indigenous and other marginalized groups), and local governments are consulted in the design, and participate in the implementation and evaluation of, activities of the Plan that affect such communities, organizations, and governments;

• Counter the activities of criminal gangs, drug traffickers, and organized crime;

• Investigate and prosecute in the civilian justice system government personnel, including military and police personnel, who are credibly alleged to have violated human rights, and ensure that such personnel are cooperating in such cases;

• Cooperate with commissions against corruption and impunity and with regional human rights entities;

• Support programs to reduce poverty, expand education and vocational training for at-risk youth, create jobs, and promote equitable economic growth particularly in areas contributing to large numbers of migrants;

• Implement a plan that includes goals, benchmarks and timelines to create a professional, accountable civilian police force and end the role of the military in internal policing, and make such plan available to the Department of State;

• Protect the right of political opposition parties, journalists, trade unionists, human rights defenders, and other civil society activists to operate without interference;

• Increase government revenues, including by implementing tax reforms and strengthening customs agencies; and

• Resolve commercial disputes, including the confiscation of real property, between United States entities and such government.

This certification shall be published in the Federal Register and, along with the accompanying Memorandum of Justification, shall be reported to Congress.

Dated: November 29, 2017.
Rex W. Tillerson,
Secretary of State.

[FR Doc. 2017-26428 Filed 12-6-17; 8:45 am]

BILLING CODE 4710-29-P